FEDERAL COMMUNICATIONS COMMISSION

47 CFR Part 25

[IB Docket 01-96; FCC 02-123]

Policies and Service Rules for the Non-Geostationary Satellite Orbit, Fixed Satellite Service in the KU-Band

AGENCY: Federal Communications Commission.

ACTION: Proposed rule.

SUMMARY: The Federal Communications Commission has adopted licensing and service rules for entities to provide Non-Geostationary Satellite Orbit, Fixed Satellite Service (NGSO FSS) in the Ku-Band frequencies, specifically the 10.7-11.7 GHz, 11.7-12.2 GHz, 12.2-12.7 GHz, 12.75-13.25 GHz, 13.75-14.0 GHz, and 14.0-14.5 GHz frequency bands. The Commission proposes adopting a methodology by which NGSO FSS applicants will demonstrate that they meet limits on their interference into geostationary-satellite orbit systems operating in shared frequencies. The Commission seeks comment on the means and timing for implementing that methodology. The Commission also request comment on a refinement of the definition of an in-line interference event adopted in the Report and Order for the NGSO FSS.

DATES: Comments are due on or before September 30, 2002 and reply comments are due on or before October 15, 2002.

ADDRESSES: Federal Communications Commission, 445 12th Street, SW., Washington, DC 20554. For filing instructions, see SUPPLEMENTARY INFORMATION.

FOR FURTHER INFORMATION CONTACT: For more information regarding the proposed rule, contact J. Mark Young, Attorney Advisor, Satellite Division, International Bureau, telephone (202) 418-0762 or via the Internet at myoung@fcc.gov.

SUPPLEMENTARY INFORMATION: This is a summary of the Commission's Further Notice of Proposed Rulemaking in IB Docket No. 01-96, FCC 02-123, adopted April 18, 2002 and released April 26, 2002. The complete text of this Further Notice of Proposed Rulemaking is available for inspection and copying during normal business hours in the FCC Reference Information Center, Portals II, 445 12th Street, SW., Room CY-A257, Washington, DC. This document may also be purchased from the Commission's duplicating contractor, Qualex International, Portals II, 445 12th Street, SW., Room CY-B402, Washington, DC 20554, telephone (202) 863-2893, facsimile (202) 863-2898 or via e-mail qualexint@aol.com. It is also available on the Commission's Web site at http://www.fcc.gov.

Summary of the Further Notice of Proposed Rulemaking

1. The rules proposed in the Further Notice of Proposed Rulemaking will not slow system development or deployment. The Commission's consideration of these additional issues will not excuse licensees' noncompliance with Commission milestones or otherwise justify any extension of time to meet those milestones.

2. The Commission's review of the record in this docket suggests that the Commission could optimize spectrum efficiency in this service by refining the angular separation definition of an in-line interference event. The Further Notice of Proposed Rulemaking requests comment on whether the definition should be changed for this reason. The record developed in the docket also informs the Commission of a significant amount of progress in International Telecommunications Union Radiocommunication (ITU-R) studies on the power flux density criteria that sets the bounds of NGSO and geostationary satellite orbit sharing in these Ku-Band frequencies. The Commission has consistently stated that all NGSO FSS licensees will be required to demonstrate that they collectively meet a limit on aggregate power flux density, although the means for making that demonstration had not yet been developed. In the Further Notice of Proposed Rulemaking, the Commission proposes to adopt the newly developed ITU-R methodology for NGSO FSS licensees, and seek comment on issues related to this new methodology.

Comment Filing Instructions

3. Pursuant to §§ 1.415 and 1.419 of the Commission's rules, 47 CFR 1.415 and 1.419, interested parties may file comments on or before September 30, 2002 and reply comments on or before October 15, 2002. Comments may be filed using the Commission's Electronic Comment Filing System (ECFS), http://www.fcc.gov/e-file/ecfs.html, or by filing paper copies.See Electronic Filing of Documents in Rule Making Proceedings, 63 FR 24,121 (1998).

4. Comments filed through the ECFS can be sent as an electronic file via the Internet to http://www.fcc.gov/e-file/ecfs.html. Generally, only one copy of an electronic submission must be filed. If multiple docket or rule making numbers appear in the caption of this proceeding, however, commenters must transmit one electronic copy of the comments to each docket or rule making number referenced in the caption. In completing the transmittal screen, commenters should include their full name, U.S. Postal Service mailing address, and the applicable docket or rulemaking number. Parties may also submit an electronic comment by Internet e-mail. To get filing instructions for e-mail comments, commenters should send an E-mail to ecfs@fcc.gov, and should including the following words in the body of the message, “get form <your e-mail address>.” A sample form and directions will be sent in reply.

5. Parties who choose to file by paper must file an original and four copies of each filing. If more than one docket or rule making number appear in the caption of this proceeding, commenters must submit two additional copies for each additional docket or rule making number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to: 445 12th Street, SW., Washington, DC 20554. All filings must be addressed to the Commission's Secretary, Office of the Secretary, Federal Communications Commission. Comments and reply comments will be available for public inspection during regular business hours in the FCC Reference Center of the Federal Communications Commission, Room TW-A306, 445 12th Street, SW., Washington, DC 20554.

6. Parties who choose to file by paper should also submit their comments on diskette. These diskettes should be submitted to: Commission's Secretary, Marlene Dortch, Office of the Secretary, Federal Communications Commission, The Portals, 445 Twelfth Street, SW., Room TW-A325, Washington, DC 20554. Such a submission should be on a 3.5-inch diskette formatted in an IBM compatible format using Word for Windows or compatible software. The diskette should be accompanied by a cover letter and should be submitted in “read only” mode. The diskette should be clearly labeled with the commenter's name, the docket number of this proceeding, type of pleading (comment or reply comment), date of submission, and the name of the electronic file on the diskette. The label should also include the following phrase “Disk Copy—Not an Original.” Each diskette should contain only one party's pleading, preferably in a single electronic file. In addition, commenters must send diskette copies to the Commission's copy contractor, Qualex International, Portals II, 445 12th Street, SW., Room CY-B402, Washington, DC 20554.

Initial Regulatory Flexibility Certification

7. The Regulatory Flexibility Act of 1980, as amended (RFA), requires that an initial regulatory flexibility analysis be prepared for notice and comment rulemaking proceedings, unless the agency certifies that “the rule will not, if promulgated, have a significant economic impact on a substantial number of small entities.” The RFA generally defines “small entity” as having the same meaning as the terms “small business,” “small organization,” and “small governmental jurisdiction.” In addition, the term “small business” has the same meaning as the term “small business concern” under the Small Business Act. Pursuant to 5 U.S.C. 601(3), the statutory definition of a small business applies “unless an agency, after consultation with the Office of Advocacy of the Small Business Administration and after opportunity for public comment, establishes one or more definitions of such term which are appropriate to the activities of the agency and publishes such definition(s) in the Federal Register. A small business concern is one which: (a) Is independently owned and operated; (b) is not dominant in its field of operation; and (c) satisfies any additional criteria established by the Small Business Administration (SBA).

8. This Further Notice of Proposed Rulemaking (“Further NPRM”) seeks comment on two proposals. One proposal is to adopt a methodology by which non-geostationary satellite orbit, fixed satellite service (“NGSO FSS”) applicants will demonstrate that they meet a limit on their interference into geostationary-satellite orbit systems operating in shared frequencies. The second proposal is to refine the definition of an in-line interference event to accommodate high-powered NGSO FSS systems. If commenters believe that the proposed rules discussed in the Further NPRM require additional RFA analysis, they should include a discussion of this in their comments.

9. Neither the Commission nor the U.S. Small Business Administration has developed a small business size standard specifically for NGSO FSS licensees. The appropriate size standard is therefore the SBA standard for Satellite Telecommunications, which provides that such entities are small if they have $12.5 million or less in annual revenues.

10. Therefore, we certify that the proposals in this Further NPRM, if adopted, will not have a significant economic impact on a substantial number of small entities.

Ordering Clauses

11. Pursuant to sections 4(i), 7(a), 303(c), 303(f), 303(g), and 303(r) of the Communications Act of 1934, as amended, 47 U.S.C. 154(i), 157(a), 303(c), 303(f), 303(g), and 303(r), this Further Notice of Proposed Rulemaking is adopted.

12. The Commission's Consumer and Governmental Affairs Bureau, Reference Information Center, shall send a copy of this Further Notice of Proposed Rulemaking, including the Initial Regulatory Flexibility Certification, in a report to Congress pursuant to the Congressional Review Act, see 5 U.S.C. 801(a)(1)(A); and shall also send a copy of this Further Notice of Proposed Rulemaking, including the Initial Regulatory Flexibility Certification, to the Chief Counsel for Advocacy of the Small Business Administration. See 5 U.S.C. 605(b). This initial certification will also be published in the Federal Register.

Federal Communications Commission.
William F. Caton,
Deputy Secretary.

[FR Doc. 02-20818 Filed 8-15-02; 8:45 am]

BILLING CODE 6712-01-P